FEDERAL DEPOSIT INSURANCE CORPORATION

Sunshine Act Meetings: Notice of Meeting To Be Held With Less Than Seven Days Advance Notice

TIME AND DATE: 10:00 a.m. on December 16, 2025.

PLACE: This Board meeting will be open to public observation by webcast. Visit https://www.fdic.gov/news/board-matters/video.html for a link to the webcast. Members of the media should contact the Office of Communications by Monday, December 15, at mediarequests@fdic.gov to attend in person. FDIC Board Members and staff will participate from FDIC Headquarters, 550 17th Street NW, Washington, DC.

Observers requiring auxiliary aids should email DisabilityProgram@fdic.gov to make necessary arrangements.

STATUS: Open to public observation via webcast.

MATTERS TO BE CONSIDERED: The Federal Deposit Insurance Corporation's (FDIC) Board of Directors will meet to consider the following matters:

Discussion Agenda

Proposed 2026 Operating Budget.

Interim Final Rule: Amendment to Special Assessment Collection.

Notice of Proposed Rulemaking: Approval Requirements for Issuance of Payment Stablecoins by Subsidiaries of FDIC-Supervised Insured Depository Institutions.

Summary Agenda

No substantive discussion of the following items is anticipated. The Board of Directors will resolve these matters with a single vote unless a member of the Board requests that an item be moved to the discussion agenda.

Final Rule: Establishment and Relocation of Branches and Offices.

Approval of the 2026-2030 FDIC Strategic Plan, as a Successor to the 2022-2026 FDIC Strategic Plan.

CONTACT PERSON FOR MORE INFORMATION: For further information, please contact Debra A. Decker, Executive Secretary, FDIC, at FDICBoardMatters@fdic.gov.

(Authority: 5 U.S.C. 552b)

Dated at Washington, DC, on December 12, 2025.
Federal Deposit Insurance Corporation.
Debra A. Decker,
Executive Secretary.

[FR Doc. 2025-22933 Filed 12-12-25; 11:15 am]

BILLING CODE 6714-01-P